INTER-AMERICAN FOUNDATION BOARD MEETING

Sunshine Act Meetings

TIME AND DATE: December 13, 2010, 9 a.m.-2 p.m.

PLACE: 901 N. Stuart Street, Tenth Floor, Arlington, Virginia 22203.

STATUS: Open session except for the portion specified as closed session as provided in 22 CFR 1004.4(f).

Matters To Be Considered

■ Approval of the Minutes of the March 29, 2010, Meeting of the Board of Directors.

■ Advisory Council Report and Recommendations.

■ Role of Advisory Council.

■ President's Report.

■ IAF Program Activities.

■ Operations.

■ Congressional Affairs.

■ RedEAmerica.

■ IAF Going Forward.

■ Executive Session—Personnel Issues.

Portions To Be Open To The Public

■ Approval of the Minutes of the March 29, 2010, Meeting of the Board of Directors.

■ Advisory Council Report and Recommendations.

■ Role of Advisory Council.

■ President's Report.

■ IAF Program Activities.

■ Operations.

■ Congressional Affairs.

■ RedEAmerica.

■ IAF Going Forward.

Portions To Be Closed To The Public

■ Executive Session—Personnel issues. Closed session as provided in 22 CFR Part 1004.4(f).

Contact Person For More Information: Jennifer Hodges Reynolds.

Dated: November 23, 2010.
Jennifer Hodges Reynolds,
General Counsel, (703) 306-4301.

[FR Doc. 2010-30270 Filed 11-26-10; 4:15 pm]

BILLING CODE 7025-01-P